DEPARTMENT OF AGRICULTURE

Animal and Plant Health Inspection Service

[Docket No. APHIS-2014-0089]

Notice of Request for Revision to and Extension of Approval of an Information Collection; Reporting, Herd Monitoring, and Management of Swine Enteric Coronavirus Diseases

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the reporting, herd monitoring, and management of swine enteric coronavirus diseases.

DATES: We will consider all comments that we receive on or before January 26, 2015.

ADDRESSES: You may submit comments by either of the following methods:

• Federal eRulemaking Portal: Go to http://www.regulations.gov/#!docketDetail;D=APHIS-2014-0089.

• Postal Mail/Commercial Delivery: Send your comment to Docket No. APHIS-2014-0089, Regulatory Analysis and Development, PPD, APHIS, Station 3A-03.8, 4700 River Road Unit 118, Riverdale, MD 20737-1238.

Supporting documents and any comments we receive on this docket may be viewed at http://www.regulations.gov/#!docketDetail;D=APHIS-2014-0089 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the reporting, herd monitoring, and management of swine enteric diseases, contact Dr. Troy Bigelow, Senior Staff Veterinarian-Swine, Surveillance, Preparedness and Response Services, VS, APHIS, 210 Walnut Street, Room 891, Des Moines, IA 50309; (515) 284-4121. For copies of more detailed information on the information collection, contact Ms. Kimberly Hardy, APHIS' Information Collection Coordinator, at (301) 851-2727.

SUPPLEMENTARY INFORMATION: Title: Reporting, Herd Monitoring, and Management of Swine Enteric Coronavirus Diseases.

OMB Control Number: 0579-0416.

Type of Request: Revision to and extension of approval of an information collection.

Abstract: Under the Animal Health Protection Act (7 U.S.C. 8301 et seq.), the Animal and Plant Health Inspection Service (APHIS) of the U.S. Department of Agriculture is authorized, among other things, to prohibit or restrict the interstate movement of animals and animal products to prevent the dissemination within the United States of animal diseases and pests of livestock and to conduct programs to detect, control, and eradicate pests and disease of livestock. Disease prevention is the most effective method for maintaining a healthy animal population. APHIS has delegated the authority for prevention of animal diseases to Veterinary Services (VS).

On June 5, 2014, VS issued a Federal Order to establish reporting, herd monitoring, and management requirements for two swine enteric coronavirus diseases (SECD). Porcine epidemic diarrhea virus was identified in the United States in May 2013, and has spread to at least 31 States. In February 2014, a related virus, porcine delta coronavirus, was identified in 13 States. Infections with these swine enteric coronaviruses can cause significant morbidity and mortality, particularly in young piglets. In fact, since identification of the porcine epidemic diarrhea virus, it has caused approximately 7 million piglet deaths. These two swine enteric coronavirus diseases are transmitted by the fecal-oral route from infected swine or contaminated materials. Only swine are affected. These diseases do not affect other animals or people, and are not a food safety concern. However, the U.S. swine population has minimal immunity against these coronaviruses; therefore, the entire population remains at risk.

Porcine epidemic diarrhea virus minimally affected trade when it was first confirmed in May 2013. However, as the spread of the disease drew media attention, negative trade impacts increased. Unfortunately, trading partners are beginning to restrict the export of not only live animals, but also animal-derived products, such as blood products and other byproducts. While no restrictions have been imposed on pork meat exports, some U.S. trading partners have begun to discuss such restrictions. The lack of sufficient information to describe the current disease situation and to outline specific Federal and State Government actions taken to control the disease only increases our trading partners' concern.

The Federal Government, States, herd veterinarians, and industry have collaborated to manage these infections in the United States. This collaboration includes certain information collection activities that were approved by the Office of Management and Budget (OMB) on an emergency basis. These information collection activities are herd management plans, disease reporting, animal movement recordkeeping, fee basis agreement and statement of work, electronic funds transfer agreement, producer reimbursement for biosecurity activities (Vendor Agreement and Statement of Work, Biosecurity Payment Certification Sheet, and review of Statement of Services Performed (VS 8-18)), agreements and workplans that include Standard Form (SF) 424 (Application for Federal Assistance), Request for Advance Reimbursement (SF 270), and State control orders or quarantines.

In addition to the above approved information collection activities, we are also adding invoicing for herd plan completion, a reimbursement form (VS 8-19), State and Tribal involvement in SECD documentation and reporting, and declaration of negative (status).

We are asking OMB to approve these information collection activities, as described, for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of Burden: The public reporting burden for this collection of information is estimated to average 2.47 hours per response.

Respondents: Pork producers, accredited veterinarians, State animal health officials, and personnel from approved laboratories.

Estimated Annual Number of Respondents: 1,500.

Estimated Annual Number of Responses per Respondent: 43.

Estimated Annual Number of Responses: 64,965.

Estimated Total Annual Burden on Respondents: 162,200 hours. (Due to averaging, the total annual burden hours may not equal the product of the annual number of responses multiplied by the reporting burden per response.)

All responses to this notice will be summarized and included in the request for OMB approval. All comments will also become a matter of public record.

Done in Washington, DC, this 19th day of November 2014.
Kevin Shea,
Administrator, Animal and Plant Health Inspection Service.

[FR Doc. 2014-27900 Filed 11-24-14; 8:45 am]

BILLING CODE 3410-34-P